DEPARTMENT OF ENERGY

Federal Energy Regulatory Commission

Notice of Filings #1

August 3, 2005.

Take notice that the Commission received the following electric rate filings:

Docket Numbers: ER00-3109-002, ER00-3774-002.

Applicants: NYSD, LP; Adirondack Hydro Fourth Branch; Warrensburg Hydro Power, LP; Sissonville, LP; Adirondack Hydro Development Corporation.

Description: Boralex Operations Inc., on behalf of the above listed licensees, pursuant to the Commission's order issued 5/31/05 (111 FERC 61,295) informs the Commission that the licensees referenced above are exempt from the power marketing requirements and are not obligated to file market power analyses.

Filed Date: 7/26/2005.

Accession Number: 20050729-0007.

Comment Date: 5 p.m. Eastern Time on Tuesday, August 16, 2005.

Docket Numbers: ER01-1758-002.

Applicants: Altorfer, Inc.

Description: Altorfer, Inc. submits its market power update, in compliance with the Commission's Order issued 3/31/05, 111 FERC 61,295.

Filed Date: 7/28/2005.

Accession Number: 20050801-0014.

Comment Date: 5 p.m. Eastern Time on Thursday, August 18, 2005.

Docket Numbers: ER01-1760-003.

Applicants: Haleywest L.L.C.

Description: Haleywest, LLC submits its Triennial Updated Market Analysis and revised tariff sheets reflecting certain Commission reporting requirements.

Filed Date: 7/28/2005.

Accession Number: 20050801-0017.

Comment Date: 5 p.m. Eastern Time on Thursday, August 18, 2005.

Docket Numbers: ER05-1054-001.

Applicants: Eastern Landfill Gas, LLC.

Description: Pepco Energy Services, on behalf of Eastern Landfill Gas, LLC, submits an Amendment to its application filed on 5/31/05 for blanket authorizations, certain waivers, and for an order approving rate schedule.

Filed Date: 7/28/2005.

Accession Number: 20050729-0095.

Comment Date: 5 p.m. Eastern Time on Thursday, August 18, 2005.

Docket Numbers: ER05-1251-000.

Applicants: Madison Windpower, LLC.

Description: Madison Windpower LLC submits a notice of cancellation of its market-based rate electric tariff, FERC Electric Rate Schedule Original Volume 1, to be effective 8/24/05.

Filed Date: 7/26/2005.

Accession Number: 20050729-0184.

Comment Date: 5 p.m. Eastern Time on Tuesday, August 16, 2005.

Docket Numbers: ER05-1252-000.

Applicants: Public Service Company of New Mexico.

Description: Public Service Co. of New Mexico (PNM) submits a notice of cancellation of Service Agreement No. 192, under its FERC Electric Tariff, Second Revised Volume No. 4, between PNM and Celerity Energy of New Mexico, LLC.

Filed Date: 7/22/2005.

Accession Number: 20050729-0181.

Comment Date: 5 p.m. Eastern Time on Friday, August 12, 2005.

Docket Numbers: ER05-1253-000.

Applicants: Southern Company Services, Inc.

Description: Southern Company Services, Inc., acting as agent for Alabama Power Company, Georgia Power Company, Gulf Power Company, Mississippi Power Company, Savannah Electric and Power Company, and Southern Power Company (collectively, Southern Companies) submits notification that the Southern Companies are adopting the revised North American Electric Reliability Council's (NERC) Transmission Loading Relief procedures as of the date approved by the NERC board (April 1, 2005).

Filed Date: 7/25/2005.

Accession Number: 20050729-0182.

Comment Date: 5 p.m. Eastern Time on Monday, August 15, 2005.

Docket Numbers: ER05-1254-000.

Applicants: Attala Energy Company, LLC.

Description: Attala Energy Company, LLC submits a Notice of Cancellation of its Rates Schedule FERC 1, effective 7/27/05.

Filed Date: 7/26/2005.

Accession Number: 20050729-0183.

Comment Date: 5 p.m. Eastern Time on Tuesday, August 16, 2005.

Docket Numbers: ER05-1255-000.

Applicants: Horizon Power, Inc.

Description: NFR Power, Inc. submits a Notice of Succession and tariff filing reflecting a change in the corporate name from NFR Power, Inc. to Horizon Power, Inc.

Filed Date: 7/27/2005.

Accession Number: 20050729-0190.

Comment Date: 5 p.m. Eastern Time on Wednesday, August 17, 2005.

Docket Numbers: ER05-1256-000.

Applicants: BP Energy Company.

Description: BP Energy Company submits a petition for acceptance of revisions to tariff to allow for sales of ancillary services at market-based rates.

Filed Date: 7/26/2005.

Accession Number: 20050729-0188.

Comment Date: 5 p.m. Eastern Time on Tuesday, August 16, 2005.

Docket Numbers: ER05-1257-000.

Applicants: Duke Energy Corporation.

Description: Duke Energy Corp. submits proposed changes to its Interconnection Agreement with North Carolina Electric Membership Corp.

Filed Date: 7/26/2005.

Accession Number: 20050729-0191.

Comment Date: 5 p.m. Eastern Time on Tuesday, August 16, 2005.

Docket Numbers: ER05-855-001.

Applicants: Duke Energy Corporation.

Description: Duke Electric Transmission submits an amendment to, and additional information concerning, the Large Generator Interconnection Agreement with Power Ventures Group, LLC, originally filed on April 22, 2005.

Filed Date: 7/27/2005.

Accession Number: 20050729-0105.

Comment Date: 5 p.m. Eastern Time on Wednesday, August 17, 2005.

Docket Numbers: ER97-18-004.

Applicants: P&T Power Co.

Description: P&T Power Co. submits its updated triennial market power report.

Filed Date: 7/28/2005.

Accession Number: 20050801-0018.

Comment Date: 5 p.m. Eastern Time on Thursday, August 18, 2005.

Docket Numbers: ER99-2061-001.

Applicants: Enjet, Inc.

Description: Enjet, Inc. submits an updated market power analysis and revised tariff sheet reflecting certain Commission reporting requirements.

Filed Date: 7/28/2005.

Accession Number: 20050801-0016.

Comment Date: 5 p.m. Eastern Time on Thursday, August 18, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4281 Filed 8-8-05; 8:45 am]

BILLING CODE 6717-01-P